DEPARTMENT OF ENERGY

Federal Energy Regulatory Commission

Notice of Application for Non-Project Use of Project Lands and Waters and Soliciting Comments, Motions to Intervene, and Protests

April 12, 2006.

Take notice that the following application has been filed with the Commission and is available for public inspection:

a. Application Type: Non-Project Use Of Project Lands And Waters.

b. Project No: 2165-024.

c. Date Filed: April 5, 2006.

d. Applicant: Alabama Power Company.

e. Name of Project: The Warrior River Project, which includes the Smith Dam development.

f. Location: The proposed action will take place at the Smith Dam development at the Mallard Point Marina on the south side of Simpson Creek, which is located in Cullman County, Alabama approximately 18 stream miles above the Smith Dam.

g. Filed Pursuant to: Federal Power Act, 16 U.S.C. 791(a) 825(r) and sections 799 and 801.

h. Applicant Contact: Mr. Keith E. Bryant, Sr. Engineer; Alabama Power Company Hydro Services; 600 18th Street North, Birmingham, AL 35203; (205) 257-1403.

i. FERC Contact: Any questions on this notice should be addressed to Lesley Kordella at (202) 502-6406, or by e-mail: Lesley.Kordella@ferc.gov.

j. Deadline for filing comments and or motions: May 1, 2006.

All documents (original and eight copies) should be filed with: Ms. Magalie R. Salas, Secretary, Federal Energy Regulatory Commission, 888 First Street, NE., Washington DC 20426. Please include the project number (P-2165-024) on any comments or motions filed. Comments, protests, and interventions may be filed electronically via the internet in lieu of paper. See, 18 CFR 385.2001(a)(1)(iii) and the instructions on the Commission's Web site under the “e-Filing” link. The Commission strongly encourages e-filings.

k. Description of Request: The licensee has requested Commission approval to replace three damaged boat docks at the existing Mallard Point Marina with two refurbished floating boat dock structures, and increase the number of fuel pumping locations on a fuel dock from one to four. The total number of docks would be reduced from four to three, and the total number of slips would be reduced from 92 to 66. The footprint of the existing marina would be reduced from 30,368 square feet to 22,830 square feet. In addition, a small store would be located on the fuel dock to provide service to boaters. There would be no dredging during construction and the boat dock structure would be constructed on land and floated into place.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E6-5822 Filed 4-18-06; 8:45 am]

BILLING CODE 6717-01-P